DEPARTMENT OF COMMERCE

Foreign-Trade Zones Board

[B-59-2021]

Foreign-Trade Zone (FTZ) 104—Savannah, Georgia, Notification of Proposed Production Activity, Savannah Yacht Center Inc. (Repair of Yachts, Sailboats, and Boat Tenders), Savannah, Georgia

Savannah Yacht Center Inc. (SYC) submitted a notification of proposed production activity to the FTZ Board for its facility in Savannah, Georgia. The notification conforming to the requirements of the regulations of the FTZ Board (15 CFR 400.22) was received on August 17, 2021.

The SYC facility is located within Subzone 104J. The facility will be used for repair and related activities involving yachts, sailboats, and boat tenders. Pursuant to 15 CFR 400.14(b), FTZ activity would be limited to the specific foreign-status materials and components and specific finished products described in the submitted notification (as described below) and subsequently authorized by the FTZ Board.

Production under FTZ procedures could exempt SYC from customs duty payments on the foreign-status components used in export production. On its domestic sales, for the foreign-status materials/components noted below, SYC would be able to choose the duty rates during customs entry procedures that apply to yachts, sailboats, and boat tenders (duty rate ranges from 1.0% to 2.4%). SYC would be able to avoid duty on foreign-status components which become scrap/waste. Customs duties also could possibly be deferred or reduced on foreign-status production equipment.

The components and materials sourced from abroad may include diesel marine propulsion engines, components for marine propulsion engines (engine mounts; seal kits; thermostats; engine controls; electrical control boxes), and various pumps (lubricating oil; fresh water system) (duty rate ranges from duty free to 2.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is October 4, 2021.

A copy of the notification will be available for public inspection in the “Reading Room” section of the Board's website, which is accessible via www.trade.gov/ftz.

For further information, contact Juanita Chen at juanita.chen@trade.gov or 202-482-1378.

Dated: August 18, 2021.
Andrew McGilvray,
Executive Secretary.

[FR Doc. 2021-18191 Filed 8-23-21; 8:45 am]

BILLING CODE 3510-DS-P